DEPARTMENT OF COMMERCE

International Trade Administration

[A-533-843]

Certain Lined Paper Products From India: Preliminary Results of Changed Circumstances Review

AGENCY: Enforcement and Compliance, International Trade Administration, Department of Commerce.

DATES: Effective Date: April 18, 2014.

SUMMARY: In response to a request from Navneet Education Limited (Navneet Education), a producer/exporter of certain lined paper products (CLPP) from India, and pursuant to section 751(b) of the Tariff Act of 1930, as amended (the Act), and 19 CFR 351.216 and 351.22l(c)(3)(ii), the Department is issuing this notice of preliminary results. We preliminarily determine that Navneet Education is the successor-in-interest to Navneet Publications (India) Ltd. (Navneet Publications). We invite interested parties to comment on these preliminary results.

FOR FURTHER INFORMATION CONTACT: Cindy Robinson or Eric B. Greynolds, AD/CVD Operations, Office III, Enforcement and Compliance, International Trade Administration, U.S. Department of Commerce, 14th Street and Constitution Avenue NW., Washington, DC 20230; telephone: (202) 482-3797 and (202) 482-6071, respectively.

SUPPLEMENTARY INFORMATION:

Background

On September 28, 2006, the Department published the antidumping duty (AD) and countervailing duty (CVD) orders on CLPP from India.¹ On October 17, 2013, Navneet Education informed the Department that effective September 30, 2013, the former company, Navneet Publications, changed its name to Navneet Education in accordance with company's existing board of directors' resolution and Indian law.² Navneet Education stated that the name change process began in August 2013 and was finalized by the end of September 2013.³ Navneet Education submitted a copy of “Fresh Certificate of Incorporation Consequent upon Change of Name” approved by “Government of India—Ministry of Corporate Affairs, Registrar of Companies, Maharashtra, Mumbai,” dated October 17, 2013.⁴

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP Order).

² See Certain Lined Paper Products from India: Request for Changed Circumstances Reviews of Navneet Publications (India) Ltd. (October 17, 2013) (CCR Request) at 2, 8 (indicating that Navneet Publications participated as a respondent in the original AD investigation, and it has been a respondent in several AD administrative reviews, most often as a named mandatory respondent (e.g., in the second through fourth reviews it received the following company-specific margins of 1.34 percent, 0.43 percent, and 2.7 percent, respectively. In the fifth review, Navneet Publications received a non-selected rate of 11.01 percent. In the on-going sixth review, it is again selected as a mandatory respondent).

³ Id., at Attachment 1.

⁴ Id.

As the company is now known as Navneet Education, it requests that: (1) The Department conduct a changed circumstances review under section 751(b)(1) of the Act and 19 CFR 351.216 to determine that it is the successor-in-interest to Navneet Publications for purposes of the antidumping order; and (2) that the Department issue instructions to Customs and Border Protection (CBP) that reflect this conclusion.⁵

⁵ Id., at 1-2.

On January 14, 2014, the Department initiated a changed circumstances review explaining that while there was sufficient evidence to initiate a successor-in-interest review, it was necessary for the Department to issue a questionnaire requesting additional information for review as provided by 19 CFR 351.221(b)(2).⁶ On January 15, 2014, the Department issued a supplemental questionnaire to Navneet Education, to which Navneet responded on January 29, 2014.⁷

⁶ See Certain Lined Paper Products from India: Initiation of Changed Circumstances Review, 79 FR 3567, 3568 (January 22, 2014).

⁷ See Navneet Education's January 29, 2014, Supplemental Questionnaire Response.

We received no comments from any other interested party concerning the changed circumstances review request filed by Navneet Education.

Scope of the Order

The merchandise covered by the CLPP Order ⁸ is certain lined paper products, typically school supplies (for purposes of this scope definition, the actual use of or labeling these products as school supplies or non-school supplies is not a defining characteristic) composed of or including paper that incorporates straight horizontal and/or vertical lines on ten or more paper sheets (there shall be no minimum page requirement for looseleaf filler paper). The products are currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.⁹

⁸ See CLPP Order.

⁹ For a complete description of the Scope of the Order, see the memorandum from Christian Marsh, Deputy Assistant Secretary for Antidumping and Countervailing Duty Operations, to Paul Piquado, Assistant Secretary for Enforcement and Compliance, “Decision Memorandum for Preliminary Results of Changed Circumstances Review: Certain Lined Paper Products from India” (Preliminary Decision Memorandum), dated concurrently with these results and hereby adopted by this notice. See, also, CLPP Order.

Methodology

In accordance with section 751(b)(1) of the Act, we are conducting a changed circumstances review based upon the information contained in Navneet Education's submissions.¹⁰

¹⁰ See CCR Request and Navneet Education Supp QNR Response.

In making a successor-in-interest determination, the Department examines several factors, including but not limited to, changes in: (1) Management; (2) production facilities; (3) supplier relationships; and (4) customer base.¹¹ While no single factor or combination of these factors will necessarily provide a dispositive indication of a successor-in-interest relationship, the Department will generally consider the new company to be the successor to the previous company if the new company's resulting operation is not materially dissimilar to that of its predecessor.¹² Thus, if the evidence demonstrates that, with respect to the production and sale of the subject merchandise, the new company operates as the same business entity as the former company, the Department will accord the new company the same antidumping treatment as its predecessor.

¹¹ See, e.g., Pressure Sensitive Plastic Tape from Italy: Preliminary Results of Antidumping Duty Changed Circumstances Review, 75 FR 8925 (February 26, 2010), unchanged in Pressure Sensitive Plastic Tape From Italy: Final Results of Antidumping Duty Changed Circumstances Review, 75 FR 27706 (May 18, 2010).

¹² See e.g., Brake Rotors From the People's Republic of China: Final Results of Changed Circumstances Antidumping Duty Administrative Review, 70 FR 69941 (November 18, 2005), citing Brass Sheet and Strip from Canada: Final Results of Antidumping Duty Administrative Review, 57 FR 20460 (May 13, 1992).

For a full description of the methodology underlying our conclusions, see Preliminary Decision Memorandum.¹³

¹³ See Memorandum to Paul Piquado, Assistant Secretary for Enforcement & Compliance, “Decision Memorandum for Preliminary Results of Changed Circumstances Review: Certain Lined Paper Products from India,” (Preliminary Decision Memorandum) dated concurrently with this Federal Register notice.

The Preliminary Decision Memorandum is a public document and is on file electronically via Import Administration's Antidumping and Countervailing Duty Centralized Electronic Service System (IA ACCESS). IA ACCESS is available to registered users at http://iaaccess.trade.gov and in the Central Records Unit (CRU), room 7046 of the main Department of Commerce building. In addition, a complete version of the Preliminary Decision Memorandum can be accessed directly on the Internet at http://www.trade.gov/ia/. The signed Preliminary Decision Memorandum and the electronic versions of the Preliminary Decision Memorandum are identical in content.

Preliminary Results of the Changed Circumstances Review

Based on the evidence reviewed, we preliminarily determine that Navneet Education is the successor-in-interest to Navneet Publications. Specifically, we find that the change of the company name from Navneet Publications to Navneet Education resulted in no significant changes to management, production facilities, supplier relationships, customer relationships, or ownership/legal structure with respect to the production and sale of the subject merchandise. Thus, we preliminarily determine that Navneet Education operates as the same business entity as Navneet Publications with respect to the subject merchandise.

If the Department upholds these preliminary results in the final results, Navneet Education will retain the AD deposit rate currently assigned to Navneet Publications with respect to the subject merchandise (i.e., the 11.01 percent cash deposit rate currently assigned to Navneet Publications). However, because cash deposits are only estimates of the amount of antidumping duties to be assessed, changes in cash deposit rates are not made retroactively.¹⁴ Therefore, no retroactive change will be made to Navneet Education's cash deposit rate, as Navneet Education requested.¹⁵ If these preliminary results are adopted in the final results of this changed circumstances review, we will instruct CBP to suspend liquidation of entries of CLPP made by Navneet Education, effective on the publication date of the final results, at the cash deposit rate assigned to Navneet Publications.

¹⁴ See Notice of Initiation and Preliminary Results of Antidumping Duty Changed Circumstances Review: Certain Frozen Warmwater Shrimp from India, 77 FR 64953 (October 24, 2012); see also Certain Hot-Rolled Lead and Bismuth Carbon Steel Products From the United Kingdom: Final Results of Changed-Circumstances Antidumping and Countervailing Duty Administrative Reviews, 64 FR 66880 (November 30, 1999).

¹⁵ Navneet argued that the determination as successor-in-interest should be made effective as of the date of the name change, i.e., September 30, 2013. See CCR Request at 8.

Public Comment

Interested parties may submit case briefs and/or written comments not later than 30 days after the date of publication of this notice.¹⁶ Rebuttals to written comments may be filed no later than five days after the written comments are filed.¹⁷ Parties who submit case or rebuttal briefs are encouraged to submit with each argument: (1) A statement of the issue; (2) a brief summary of the argument; and (3) a table of authorities. All comments are to be filed electronically using Enforcement and Compliance's Antidumping and Countervailing Duty Centralized Electronic Service System (IA ACCESS) available to registered users at http://iaaccess.trade.gov and in the Central Records Unit, Room 7046 of the main Department of Commerce building, and must also be served on interested parties.¹⁸ An electronically filed document must be received successfully in its entirety by IA ACCESS by 5:00 p.m. Eastern Standard Time on the day it is due.¹⁹

¹⁶ See 19 CFR 351.309(c)(2).

¹⁷ See 19 CFR 351.309(d).

¹⁸ See 19 CFR 351.303(b) and (f).

¹⁹ See 19 CFR 351.303(b).

Interested parties who wish to request a hearing, or to participate if one is requested, must submit a written request to the Assistant Secretary for Enforcement and Compliance, U.S. Department of Commerce, using Enforcement and Compliance's IA ACCESS system within 30 days after the date of publication of this notice.²⁰ Requests should contain the party's name, address, and telephone number, the number of participants, and a list of the issues to be discussed. Oral presentations will be limited to issues raised in the briefs. If a request for a hearing is made, we will inform parties of the scheduled date for the hearing which will be held at the U.S. Department of Commerce, 14th Street and Constitution Avenue NW., Washington, DC 20230, at a time and location to be determined.²¹ Parties should confirm by telephone the date, time, and location of the hearing.

²⁰ See 19 CFR 351.310(c).

²¹ See 19 CFR 351.310.

Consistent with 19 CFR 351.216(e), we will issue the final results of this changed circumstances review no later than 270 days after the date on which this review was initiated, or within 45 days if all parties agree to our preliminary finding.

We are issuing and publishing this finding and notice in accordance with sections 751(b)(l) and 777(i)(l) of the Act and 19 CFR 351.216.

Dated: April 11, 2014.
Paul Piquado,
Assistant Secretary for Enforcement and Compliance.

Appendix

I. Summary

II. Background

III. Scope of the Order

IV. Preliminary Results

V. Discussion of Methodology

VI. Recommendation

[FR Doc. 2014-08801 Filed 4-17-14; 8:45 am]

BILLING CODE 3510-DS-P